DEPARTMENT OF HOMELAND SECURITY

Directorate of Information Analysis and Infrastructure Protection; National Infrastructure Advisory Council; Notice of Open Meeting

The National Infrastructure Advisory Council (NIAC) will meet on Tuesday, July 22, 2003, from 11:30 a.m. until 1:30 p.m. in the Herman Lay room of the United States Chamber of Commerce, 1615 H Street, NW., Washington DC. The meeting will be open to the public. Limited seating will be available. Reservations are not accepted.

The Council advises the President of the United States on the security of information systems for critical infrastructure supporting other sectors of the economy, including banking and finance, transportation, energy, manufacturing, and emergency government services. At this meeting, the Council will receive a briefing concerning the activities of the National Security Telecommunications Advisory Committee and will be briefed on the status of several Working Group activities that the Council undertook at its last meeting.

Agenda

I. Opening of Meeting:

Nancy J. Wong, Director, Office of Planning and Partnerships, U.S. Department of Homeland Security (DHS)/Designated Federal Officer, NIAC

II. Roll Call of Members:

NIAC Staff

III. Opening Remarks:

Gen. John A. Gordon (USAF, ret.), Assistant to the President and Homeland Security Advisor, Homeland Security Council

Lt. Gen. Frank Libutti (USMC, ret.), Under Secretary for Information Analysis and Infrastructure Protection, DHS

Richard K. Davidson, Chairman, President & CEO, Union Pacific Corporation; Chairman, NIAC

IV. Briefing on the National Security Telecommunications Advisory Committee (NSTAC):

a. Introductions: Ms. Wong

b. Briefing: Dr. Vance D. Coffman, Chairman & CEO, Lockheed Martin, NSTAC Chairman (invited), and

Mr. F. Duane Ackerman, Chairman, President & CEO, BellSouth; NSTAC Vice Chairman (invited)

c. Question and Answer Session: Dr. Coffman, Mr. Ackerman, NIAC Members

V. Status Reports on Pending Initiatives:

a. Vulnerability Disclosure: Mr. John T. Chambers, President & CEO, Cisco Systems, Inc.; NIAC Vice Chairman; and

Mr. John W. Thompson, Chairman & CEO, Symantec Corporation; NIAC member

b. Interdependencies: Mr. Martin G. McGuinn, Chairman & CEO, Mellon Financial Corporation; NIAC member

c. Information Sharing: Mr. Thomas E. Noonan, Chairman, President & CEO, Internet Security Systems, Inc.; NIAC member

VI. Adjournment

Written comments may be submitted at any time before or after the meeting. However, to facilitate distribution of public presentation materials to Council members, the Council suggests that presenters forward the public presentation materials, ten days prior to the meeting date, to the following address: Mr. Eric T. Werner, Office of Planning and Partnerships, Directorate of Information Analysis and Infrastructure Protection, U.S. Department of Homeland Security, 14th Street & Constitution Avenue, NW., Room 6073, Washington, DC 20230.

For more information contact Eric Werner on (202) 482-7470.

Dated: July 7, 2003.
Eric T. Werner,
Council Liaison Officer.

[FR Doc. 03-17234 Filed 7-7-03; 8:45 am]

BILLING CODE 4410-10-M